DEPARTMENT OF HEALTH AND HUMAN SERVICES

Centers for Disease Control and Prevention

[30DAY-40-03]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: Application for Training (OMB No. 0920-0017)—Revision—The Public Health Practice Program Office (PHPPO), in conjunction with the Public Health Training, offers self-study, computer-based training, satellite broadcasts, video courses, web-casts, instructor-led field courses, and lab courses related to public health professionals worldwide. Employees of hospitals, universities, medical centers, laboratories, state and federal agencies, and state and local health departments apply for training in an effort to learn up-to-date public health procedures. The “Application for Training” forms are the official applications used for all training activities conducted by the CDC. The Continuing Education (CE) Program includes CDC's accreditation to provide Continuing Medical Education (CME), Continuing Nurse Education (CNE), Certified Health Education Specialist (CHES), and Continuing Education Unit (CEU) for almost all training activities.

The estimated annualized burden is 2,548 hours.

Respondents | Number of respondents | Number of responses/respondent | Average burden/response (in hours)
National Laboratory Training Network Registration Form, Training Form 32.1 | 8,500 | 1 | 5/60
Registration for Training and Continuing Education, Form 36.5 | 20,000 | 1 | 5/60
Management for International Public Health Course Application Form | 25 | 1 | 15/60
Student Information Form | 5,000 | 1 | 2/60

Dated: April 16, 2003.
Thomas A. Bartenfeld,
Acting Associate Director for Policy, Planning and Evaluation, Centers for Disease Control and Prevention.

[FR Doc. 03-9858 Filed 4-21-03; 8:45 am]

BILLING CODE 4163-18-P